DEPARTMENT OF COMMERCE

National Oceanic and Atmospheric Administration

Agency Information Collection Activities; Submission to the Office of Management and Budget (OMB) for Review and Approval; Comment Request; Implementation of Vessel Speed Restrictions To Reduce the Threat of Ship Collisions With North Atlantic Right Whales

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 21, 2021.

ADDRESSES: Interested persons are invited to submit written comments to Adrienne Thomas, NOAA PRA Officer, at Adrienne.thomas@noaa.gov. Please reference OMB Control Number 0648-0580 in the subject line of your comments. Do not submit Confidential Business Information or otherwise sensitive or protected information.

FOR FURTHER INFORMATION CONTACT: Requests for additional information or specific questions related to collection activities should be directed to Jean Higgins, Protected Species Conservation Branch Chief, Greater Atlantic Regional Office, 55 Greater Republic Drive, Gloucester, MA 01930, 978-281-9345, jean.higgins@noaa.gov.

SUPPLEMENTARY INFORMATION:

I. Abstract

This request is for a revision to a currently approved information collection.

On October 10, 2008, NMFS published a final rule (0648-AS36) implementing seasonal speed restrictions along the east coast of the U.S. to reduce the incidence and severity of vessel collisions with North Atlantic right whales (73 FR 60173). The final rule contained a mandatory collection-of-information requirement subject to the Paperwork Reduction act (PRA), which collects information about safety deviations from the rule in alignment with 50 CFR 224.105(c). The restrictions are in effect seasonally in discrete areas along the U.S. eastern seaboard. NMFS provided a safety exception to the restrictions due to poor weather or sea conditions. Ships' captains are required to make an entry into the vessel's Official Logbook when an exception is necessary.

This revision to the current information collection includes a voluntary survey effort of vessel operators to evaluate their ability and willingness to: (1) Comply with North Atlantic right whale mandatory speed restrictions, and (2) cooperate with voluntary speed reduction efforts to protect North Atlantic right whales, which are promoted through NMFS outreach efforts. We will collect information from two types of vessels (pleasure yachts and large ocean going vessels) in two different areas of the North Atlantic right whales' range using voluntary online surveys and small focus groups. The surveys will collect information about vessel operators' time spent on the water, experience and knowledge about large whales, knowledge of North Atlantic vessel strike reduction efforts, opinions about these whales and conservation efforts, and their preferred means of receiving information. Results from this information collection will be used to develop effective outreach to these vessel communities, with the long-term goal of improving the communities' compliance with mandatory measures and cooperation with voluntary measures that support North Atlantic right whale vessel strike reduction conservation efforts.

II. Method of Collection

New survey information will be collected in two ways. Surveys will be administered electronically. Focus group information will be collected either in person or virtually during 2.5-hour face-to-face or virtual meetings.

The information collection requires an entry into the vessel's hard copy logbook.

III. Data

OMB Control Number: 0648-0580.

Form Number(s): None.

Type of Review: Regular submission [revision of a current information collection].

Affected Public: Individuals or households; Business or other for-profit organizations.

Estimated Number of Respondents: 4,342.

Estimated Time per Response: One hour for electronic surveys, 2.5 hours for focus groups, 5 minutes for logbook entries.

Estimated Total Annual Burden Hours: 273.

Estimated Total Annual Cost to Public: 0.

Respondent's Obligation: Logbook entry—Mandatory. Survey—Voluntary.

Legal Authority: US Code: 16 U.S.C. 1531-1543. Name of Law: Endangered Species Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-05850 Filed 3-19-21; 8:45 am]

BILLING CODE 3510-22-P